FEDERAL COMMUNICATIONS COMMISSION

[CC Docket 87-124, DA 05-1683]

Request for Comments On Panasonic Corporation Of North America's Request For Waiver Of Hearing Aid-Compatibility And Volume Control Requirements For Its Panasonic 2.4 GHz FHSS Cordless Telephone With Bone Conduction Type Ear-Piece

AGENCY: Federal Communications Commission.

ACTION: Notice.

SUMMARY: In this document, the Commission seeks public comment on a Request for Waiver filed by Panasonic Corporation regarding the hearing aid compatibility and volume control requirements in order to market the Panasonic 2.4 GHz FHSS Cordless Telephone with Bone Conduction Type Ear-Piece, Model KX-TG2388.

DATES: Reply comments may be filed on or before July 7, 2005.

ADDRESSES: You may submit comments identified by CC Docket 87-124, by any of the following methods:

• Federal eRulemaking Portal: http://www.regulations.gov. Follow the instructions for submitting comments.

• Federal Communications Commission s Web site: http://www.fcc.gov/cgb/ecfs/. Follow the instructions for submitting comments.

• E-mail: Arlene.Alexander@fcc.gov. Include the docket number(s) in the subject line of the message.

• Mail: Federal Communications Commission, Consumer & Governmental Affairs Bureau, 445 12th Street, SW., Room CY-418, Washington, DC 20554.

• People with Disabilities: Contact the FCC to request reasonable accommodations (accessible format documents, sign language interpreters, CART, etc.) by e-mail: FCC504@fcc.gov or phone (202) 418-0539 or TTY: (202) 418-0432.

For detailed instructions for submitting comments and additional information on the rulemaking process, see the SUPPLEMENTARY INFORMATION section of this document.

FOR FURTHER INFORMATION CONTACT: Arlene Alexander, (202) 418-0581 (voice), (202) 418-0183 (TTY), or e-mail Arlene.Alexander@fcc.gov.

SUPPLEMENTARY INFORMATION: This is a summary of the Commission's Public Notice, DA 05-1683, released June 17, 2005. Pursuant to §§ 1.415 and 1.419 of the Commission's rules, 47 CFR 1.415, 1.419, interested parties may file reply comments on or before July 7, 2005. All filings must reference CC Docket No. 87-124. Reply comments may be filed using the Commission's Electronic Comment Filing System (ECFS) or by filing paper copies. Reply comments filed through the ECFS can be sent as an electronic file via the Internet to http://www.fcc.gov/cgb/ecfs/. Generally, only one copy of an electronic submission must be filed. If multiple docket or rulemaking numbers appear in the caption of this proceeding, however, commenters must transmit one electronic copy of the reply comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form.” A sample form and directions will be sent in reply.

Parties who choose to file by paper must file an original and four copies of each filing. If more than one docket or rulemaking number appears in the caption of this proceeding, commenter must submit two additional copies for each additional docket or rulemaking number. Filings can be sent by hand or messenger delivery, electronic media, by commercial overnight courier, or by first-class or overnight U.S. Postal Service mail (although we continue to experience delays in receiving U.S. Postal Service mail). The Commission's contractor, Natek, Inc. will receive hand-delivered or messenger-delivered paper filings or electronic media for the Commission's Secretary at 236 Massachusetts Avenue, NE., Suite 110, Washington, DC 20002. The filing hours at this location are 8 a.m. to 7 p.m. All hand deliveries must be held together with rubber bands or fasteners. Any envelopes must be disposed of before entering the building. Commercial and electronic media sent by overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission, 445 12th Street, SW., Room TW-B204, Washington, DC 20554.

Parties who choose to file by paper should also submit their reply comment on diskette. These diskettes should be submitted, along with three paper copies to: Arlene Alexander, Consumer & Governmental Affairs Bureau, Disability Rights Office, 445 12th Street, SW., Room CY-C418, Washington, DC 20554. Such a submission should be a 3.5 inch diskette formatted in an IBM compatible format using Word 97 or compatible software. The diskette should be accompanied by a cover letter and should be submitted in “read only” mode. The diskette should be clearly labeled with the commenter's name, proceeding (including the lead docket number in this case (CC Docket No. 87-124)), type of pleading (Reply comment), date of submission, and the name of the electronic file on the diskette. The label should also include the following phrases “Disk Copy—Not an Original.” Each diskette should contain only one party's pleading, preferably in a single electronic file. In addition, commenters must send diskette copies to the Commission's copy contractor, Best Copy and Printing, Inc. (BCPI), Portals II, 445 12th Street, SW., Room CY-CB402, Washington, DC 20554.

Pursuant to § 1.1206 of the Commission's rules, 47 CFR 1.1206, this proceeding will be conducted as a permit-but-disclose proceeding in which ex parte communications are subject to disclosure.

A copy of this document, Panasonic's Request for Waiver, and any subsequently filed documents in this matter will be available for public inspection and copying during regular business hours at the FCC Reference Information Center, Portals II, 445 12th Street, SW., Room CY-A257, Washington, DC 20554. This document, Panasonic's Request for Waiver submission and any subsequently filed document in this matter may also be purchased from the Commission's duplicating contractor, BCPI, Portals II, 445 12th Street, SW., Room CY-B402, Washington, DC 20554. Customers may contact BCPI at their Web site: http://www.bcpiweb.com or call 1-800-378-3160. A copy of the submission may also be found by searching on the Commission's Electronic Comment Filing System (ECFS) at http://www.fcc.gov/cgb/ecfs (insert CC Docket No. 87-124 into the Proceeding block).

To request materials in accessible formats for people with disabilities (Braille, large print, electronic files, audio format), send an e-mail to fcc504@fcc.gov or call the Consumer & Governmental Affairs Bureau at (202) 418-0530 (voice) or (202) 418-0432 (TTY). This Public Notice can also be downloaded in Word and Portable Document Format (PDF) at http://www.fcc.gov/cgb.dro.

Synopsis

On April 19, 2005, Panasonic Corporation filed a Request for Waiver with the Federal Communications Commission (Commission) of the hearing aid compatibility and volume control requirements set forth in 47 CFR 68.316 and 68.317 in order to market the Panasonic 2.4 GHz FHSS Cordless Telephone with Bone Conduction Type Ear-Piece, Model KX-TG2388. Panasonic asserts that the non-conforming ear-piece will benefit the special needs of “transmission hearing impaired” persons, i.e., individuals who have loss of hearing in the outer ear that collects incoming sound waves. Panasonic also states that the product would be labeled as non-hearing aid compatible, contain a warning that the phone may not be used in a public location, and provide instructions on how to reduce feedback in a hearing aid caused by the telephone.

Federal Communications Commission.
Jay Keithley,
Deputy Bureau Chief, Consumer & Governmental Affairs Bureau.

[FR Doc. 05-14061 Filed 7-19-05; 8:45 am]

BILLING CODE 6712-01-P